DEPARTMENT OF COMMERCE

Bureau of Industry and Security

15 CFR Part 744

[Docket No. 250106-0001]

RIN 0694-AK01

Additions to the Entity List

AGENCY: Bureau of Industry and Security, Department of Commerce.

ACTION: Final rule.

SUMMARY: In this rule, the Bureau of Industry and Security (BIS) amends the Export Administration Regulations (EAR) by adding 16 entities to the Entity List, under the destinations of China, People's Republic of (China) (14) and Singapore (2). These entities have been determined by the U.S. Government to be acting contrary to the national security or foreign policy interests of the United States.

DATES: This rule is effective January 16, 2025.

FOR FURTHER INFORMATION CONTACT: Chair, End-User Review Committee, Office of the Assistant Secretary for Export Administration, Bureau of Industry and Security, Department of Commerce, Phone: (202) 482-5991, Email: ERC@bis.doc.gov.

SUPPLEMENTARY INFORMATION:

Background

The Entity List (supplement no. 4 to part 744 of the EAR (15 CFR parts 730-774)) identifies entities for which there is reasonable cause to believe, based on specific and articulable facts, that the entities have been involved, are involved, or pose a significant risk of being or becoming involved in, activities contrary to the national security or foreign policy interests of the United States, pursuant to § 744.11(b). The EAR imposes additional license requirements on, and limits the availability of, most license exceptions for exports, reexports, and transfers (in-country) when a listed entity is a party to the transaction. The license review policy for each listing is identified in the “License Review Policy” column on the Entity List, and the impact on the availability of license exceptions is described in the relevant Federal Register document that added the listing to the Entity List. BIS amends the Entity List pursuant to parts 744 (Control Policy: End-User and End-Use Based) and 746 (Embargoes and Other Special Controls) of the EAR.

The End-User Review Committee (ERC), composed of representatives of the Departments of Commerce (Chair), State, Defense, Energy and, where appropriate, the Treasury, makes all decisions regarding additions to, removals from, or other modifications to the Entity List. The ERC makes all decisions to add an entry to the Entity List by majority vote and makes all decisions to remove or modify an entry by unanimous vote.

Entity List Decisions

Additions to the Entity List

The ERC approved the addition of Chengdu Suanfeng Technology Co., Ltd.; Fujian Sophon Technology Co., Ltd.; Fujian Suanxin Technology Co., Ltd.; Jiangsu Suanxin Technology Co., Ltd.; Qingdao Sophgo Technology Co., Ltd.; Quliang Electronics Co., Ltd.; Shanghai Suanhu Technology Co., Ltd.; Sophgo Technologies Ltd.; Sophon Technology (Beijing) Co., Ltd.; Suanli (Fujian) Technology Co., Ltd.; Tianjin Shunhua Technology Co., Ltd.; Wuhan Sophgo Technology Co., Ltd.; Wuxi Sophgo Technology Co., Ltd.; and Xiamen Sophgo Technologies Limited under the destination of China; and Sophgo Technologies Pte. Ltd. and PowerAir Pte. Ltd. under the destination of Singapore to the Entity List. These entities are being added to the Entity List due to their involvement in supporting or directly contributing to the development of advanced computing integrated circuits (ICs) that further China's development of advanced weapons systems, weapons of mass destruction, and high-tech surveillance applications, and because these entities supply Chinese public security end users and pose a risk of diversion to Huawei, an entity on the Entity List. This activity is contrary to the national security and foreign policy interests of the United States under § 744.11 of the EAR. These entities will be added to the Entity List with a footnote 4 designation for their role in supporting or directly contributing to the development of advanced computing ICs that further China's development of advanced weapons systems, weapons of mass destruction, and high-tech surveillance applications. For all of these entities, BIS imposes a license requirement for all items subject to the EAR, and a license review policy of a presumption of denial. The footnote 4 designation means that “items subject to the EAR,” for the purpose of the license requirements for these entries, includes foreign-produced items that are subject to the EAR pursuant to § 734.9(e)(2) of the EAR.

For the reasons described above, this final rule adds the following 16 entities, including aliases where appropriate, to the Entity List:

China

• Chengdu Suanze Technology Co., Ltd.,

• Fujian Sophon Technology Co., Ltd.,

• Fujian Suanxin Technology Co., Ltd.,

• Jiangsu Suanxin Technology Co., Ltd.,

• Qingdao Sophgo Technology Co., Ltd.,

• Quliang Electronics Co., Ltd.,

• Shanghai Suanhu Technology Co., Ltd.,

• Sophgo Technologies Ltd.,

• Sophon Technology (Beijing) Co., Ltd.,

• Suanli (Fujian) Technology Co., Ltd.,

• Tianjin Shunhua Technology Co., Ltd.,

• Wuhan Suanneng Technology Co., Ltd.,

• Wuxi Suanneng Technology Co., Ltd., and

• Xiamen Sophgo Technologies Limited.

Singapore

• Sophgo Technologies Pte. Ltd., and

• PowerAir Pte. Ltd.

Savings Clause

For the changes being made in this final rule, shipments of items removed from eligibility for a License Exception or export, reexport, or transfer (in-country) without a license (NLR) as a result of this regulatory action that were en route aboard a carrier to a port of export, reexport, or transfer (in-country), on January 16, 2025, pursuant to actual orders for export, reexport, or transfer (in-country) to or within a foreign destination, may proceed to that destination under the previous eligibility for a License Exception or export, reexport, or transfer (in-country) without a license (NLR) before February 18, 2025. Any such items not actually exported, reexported or transferred (in-country) before midnight, on February 18, 2025, require a license in accordance with this final rule.

Export Control Reform Act of 2018

On August 13, 2018, the President signed into law the John S. McCain National Defense Authorization Act for Fiscal Year 2019, which included the Export Control Reform Act of 2018 (ECRA) (50 U.S.C. 4801-4852). ECRA provides the legal basis for BIS's principal authorities and serves as the authority under which BIS issues this rule. In particular, Section 1753 of ECRA (50 U.S.C. 4812) authorizes the regulation of exports, reexports, and transfers (in-country) of items subject to U.S. jurisdiction. Further, Section 1754(a)(1)-(16) of ECRA (50 U.S.C. 4813(a)(1)-(16)) authorizes, inter alia, establishing and maintaining a list of foreign persons and end-uses that are determined to be a threat to the national security and foreign policy of the United States pursuant to the policy set forth in Section 1752(2)(A), and restricting exports, reexports, and in-country transfers of any controlled items to any foreign person or end-use so listed; apprising the public of changes in policy, regulations, and procedures, and any other action necessary to carry out ECRA that is not otherwise prohibited by law. Pursuant to Section 1762(a) of ECRA (50 U.S.C. 4821(a)), these changes can be imposed in a final rule without prior notice and comment.

Rulemaking Requirements

1. This rule has been determined to be not significant for purposes of Executive Order 12866.

2. Notwithstanding any other provision of law, no person is required to respond to or be subject to a penalty for failure to comply with a collection of information, subject to the requirements of the Paperwork Reduction Act of 1995 (PRA) (44 U.S.C. 3501 et seq.), unless that collection of information displays a currently valid Office of Management and Budget (OMB) Control Number. This regulation involves an information collection approved by OMB under control number 0694-0088, Simplified Network Application Processing System. BIS does not anticipate a change to the burden hours associated with this collection as a result of this rule. Information regarding the collection, including all supporting materials, can be accessed at: https://www.reginfo.gov/public/do/PRAMain.

3. This rule does not contain policies with federalism implications as that term is defined in Executive Order 13132.

4. Pursuant to Section 1762 of ECRA (50 U.S.C. 4821), this action is exempt from the Administrative Procedure Act (APA) (5 U.S.C. 553) requirements for notice of proposed rulemaking, opportunity for public participation, and delay in effective date. While Section 1762 of ECRA provides sufficient authority for such an exemption, this action is also independently exempt from these APA requirements because it involves a military or foreign affairs function of the United States (5 U.S.C. 553(a)(1)).

5. Because a notice of proposed rulemaking and an opportunity for public comment are not required to be given for this rule by 5 U.S.C. 553, or by any other law, the analytical requirements of the Regulatory Flexibility Act (5 U.S.C. 601 et seq.) are not applicable. Accordingly, no regulatory flexibility analysis is required, and none has been prepared.

List of Subjects in 15 CFR Part 744

Exports, Reporting and recordkeeping requirements, Terrorism.

Accordingly, part 744 of the Export Administration Regulations (15 CFR parts 730-774) is amended as follows:

PART 744—END-USE AND END-USER CONTROLS

1. The authority citation for part 744 continues to read as follows:

Authority: 50 U.S.C. 4801-4852; 50 U.S.C. 4601 et seq.; 50 U.S.C. 1701 et seq.; 22 U.S.C. 3201 et seq.; 42 U.S.C. 2139a; 22 U.S.C. 7201 et seq.; 22 U.S.C. 7210; E.O. 12058, 43 FR 20947, 3 CFR, 1978 Comp., p. 179; E.O. 12851, 58 FR 33181, 3 CFR, 1993 Comp., p. 608; E.O. 12938, 59 FR 59099, 3 CFR, 1994 Comp., p. 950; E.O. 13026, 61 FR 58767, 3 CFR, 1996 Comp., p. 228; E.O. 13099, 63 FR 45167, 3 CFR, 1998 Comp., p. 208; E.O. 13222, 66 FR 44025, 3 CFR, 2001 Comp., p. 783; E.O. 13224, 66 FR 49079, 3 CFR, 2001 Comp., p. 786; Notice of September 18, 2024, 89 FR 77011 (September 20, 2024); Notice of November 7, 2024, 89 FR 88867 (November 8, 2024).

2. Supplement no. 4 is amended by:

a. Under CHINA, PEOPLE'S REPUBLIC OF, adding in alphabetical order entries for Chengdu Suanze “Technology Co., Ltd.; “Fujian Sophon Technology Co., Ltd.;” “Fujian Suanxin Technology Co., Ltd.;” “Jiangsu Suanxin Technology Co., Ltd.;” “Qingdao Sophgo Technology Co., Ltd.;” “Quliang Electronics Co., Ltd.;” “Shanghai Suanhu Technology Co., Ltd.;” “Sophgo Technologies Ltd.;” “Sophon Technology (Beijing) Co., Ltd.;” “Suanli (Fujian) Technology Co., Ltd.;” “Tianjin Shunhua Technology Co., Ltd.;” “Wuhan Suanneng Technology Co., Ltd.;” “Wuxi Suanneng Technology Co., Ltd.;” and “Xiamen Sophgo Technologies Limited;” and

b. Under SINGAPORE, adding in alphabetical order entries for “Sophgo Technologies Pte. Ltd.;” and “PowerAir Pte. Ltd.”

The additions read as follows:

Supplement No. 4 to Part 744—Entity List

* * * * *

Country | Entity | License requirement | License review policy | Federal Register citation
* * * * * *
CHINA, PEOPLE'S REPUBLIC OF | * * * * * *
| Chengdu Suanze Technology Co., Ltd., No. 401 (attached to No. A54), 4th Floor, Unit 1, Building 4, No. 1700, North Section of Tianfu Avenue, Chengdu High-tech Zone, China (Sichuan) Pilot Free Trade Zone, Sichuan Province, China. | For all items subject to the EAR (See §§ 734.9(e)(2) and 744.11 of the EAR) ⁴ | Presumption of denial | 90 FR [INSERT FR PAGE NUMBER AND January 16, 2025].
| * * * * * *
| Fujian Sophon Technology Co., Ltd., a.k.a., and the following one alias: —Fujian Suanfeng Technology Co., Ltd. | For all items subject to the EAR (See §§ 734.9(e)(2) and 744.11 of the EAR) ⁴ | Presumption of denial | 89 FR [INSERT FR PAGE NUMBER] January 16, 2025.
| Room 916, Yangguang Building North, Fuzhou University Science and Technology Park, No. 2, Xueyuan Road, Shangjie Town, Minhou County, Fuzhou, Fujian Province, China.
| Fujian Suanxin Technology Co., Ltd., 02 1st Floor, #2-1 Building, Qiaoxingjun Area 2, North Baima Road, Nanjie Neighborhood, Gulou District, Fuzhou, Fujian Province, China. | For all items subject to the EAR (See §§ 734.9(e)(2) and 744.11 of the EAR) ⁴ | Presumption of denial | 89 FR [INSERT FR PAGE NUMBER] January 16, 2025.
| * * * * * *
| Jiangsu Suanxin Technology Co., Ltd., Room 1501, Building 1, No. 8 Zhujiawan Street, Gusu District, Suzhou, Jiangsu Province, China. | For all items subject to the EAR (See §§ 734.9(e)(2) and 744.11 of the EAR) ⁴ | Presumption of denial | 89 FR [INSERT FR PAGE NUMBER] January 16, 2025.
| * * * * * *
| Qingdao Sophgo Technology Co., Ltd., a.k.a., the following two aliases: —Qingdao Suanneng; and —Qingdao Sophon. | For all items subject to the EAR (See §§ 734.9(e)(2) and 744.11 of the EAR) ⁴ | Presumption of denial | 89 FR [INSERT FR PAGE NUMBER] January 16, 2025.
| Room 501, Building 20, Zone C, Kechuang Huigu (Qingdao) Science and Technology Park, No. 2 Xiuyuan Road, High-tech Zone, Qingdao, Shandong Province, China.
| * * * * * *
| Quliang Electronics Co., Ltd., No. 368 Jianxing Road, Integrated Circuit Science Park, Jinjiang City, Quanzhou, Fujian Province, China. | For all items subject to the EAR (See §§ 734.9(e)(2) and 744.11 of the EAR) ⁴ | Presumption of denial | 90 FR [INSERT FR PAGE NUMBER] January 16, 2025.
| * * * * * *
| Shanghai Suanhu Technology Co., Ltd., 3rd Floor, Building 2, No. 200 Zhangheng Road, China (Shanghai) Pilot Free Trade Zone, Shanghai, China. | For all items subject to the EAR (See §§ 734.9(e)(2) and 744.11 of the EAR) ⁴ | Presumption of denial | 90 FR [INSERT FR PAGE NUMBER] January 16, 2025.
| * * * * * *
| Sophgo Technologies Ltd., a.k.a., the following four aliases: —Beijing Sophgo; —Beijing Suanneng Technology Co., Ltd; —Sophgo; and —SOPHON. | For all items subject to the EAR (See §§ 734.9(e)(2) and 744.11 of the EAR) ⁴ | Presumption of denial | 90 FR [INSERT FR PAGE NUMBER] January 16, 2025.
| 901, 9th Floor, Building 8, No. 8 Kegu 1st Street, Beijing Economic and Technological Development Zone, Yizhuang Group High-end Industrial Zone, Beijing Pilot Free Trade Zone, Beijing, China; and Building 6, Yard 9, Fenghao East Road, Haidian District, Beijing, China.
| Sophon Technology (Beijing) Co., Ltd., Room 106-2, Floor 1, Building 1, No. 9 Fenghao East Road, Haidian District, Beijing, China. | For all items subject to the EAR (See §§ 734.9(e)(2) and 744.11 of the EAR) ⁴ | Presumption of denial | 90 FR [INSERT FR PAGE NUMBER] January 16, 2025.
| * * * * * *
| Suanli (Fujian) Technology Co., Ltd., Building 2, Phase 2, China Southeast Big Data Industrial Park, No. 2 Hujiang Road, Wenwusha Neighborhood, Changle District, Fuzhou, Fujian Province, China. | For all items subject to the EAR (See §§ 734.9(e)(2) and 744.11 of the EAR) ⁴ | Presumption of denial | 90 FR [INSERT FR PAGE NUMBER]January 16, 2025.
| * * * * * *
| Tianjin Shunhua Technology Co., Ltd., Area 3, Floor 1, Area C, Dongman Building, No. 126 Dongman Middle Road, Sino-Singapore Tianjin Eco-city (No. TG0004), Binhai, Tianjin, China. | For all items subject to the EAR (See §§ 734.9(e)(2) and 744.11 of the EAR) ⁴ | Presumption of denial | 90 FR [INSERT FR PAGE NUMBER] January 16, 2025.
| * * * * * *
| Wuhan Suanneng Technology Co., Ltd., a.k.a., the following one alias: —Wuhan Sophgo. | For all items subject to the EAR (See §§ 734.9(e)(2) and 744.11 of the EAR) ⁴ | Presumption of denial | 90 FR [INSERT FR PAGE NUMBER] January 16, 2025.
| Room 2902, Fanyuecheng Office Building T2, Guanshan Avenue, East Lake New Technology Development Zone, Wuhan, Hubei Province, China; and Room 2902, Fanyuecheng Office Building T2, Guanshan Avenue, Donghu New Technology Development Zone, Wuhan, Hubei Province, China.
| * * * * * *
| Wuxi Suanneng Technology Co., Ltd., a.k.a., the following one alias: —Wuxi Sophgo. | For all items subject to the EAR (See §§ 734.9(e)(2) and 744.11 of the EAR) ⁴ | Presumption of denial | 90 FR [INSERT FR PAGE NUMBER] January 16, 2025.
| Room 7028, Comprehensive Building, No. 298 Xicheng Road, Liangxi District, Wuxi, Jiangsu Province, China.
| * * * * * *
| Xiamen Sophgo Technologies Limited, a.k.a., the following two aliases: —Xiamen Suanneng Technology Co., Ltd.; and —Xiamen Sophgo. | For all items subject to the EAR (See §§ 734.9(e)(2) and 744.11 of the EAR) ⁴ | Presumption of denial | 90 FR [INSERT FR PAGE NUMBER] January 16, 2025.
| Room 702-01, Xinghui Building, No. 9, Zengcuoan North Road, Software Park, Xiamen Torch Hi-Tech Zone, Xiamen, Fujian Province, China.
| * * * * * *
* * * * * *
| * * * * * *
SINGAPORE | Sophgo Technologies Pte. Ltd., #13-01/02/03, 9 Temasek Boulevard, Singapore; and 38 Beach Road, #29-11, South Beach Tower, 189767, Singapore. | For all items subject to the EAR (See §§ 734.9(e)(2) and 744.11 of the EAR) ⁴ | Presumption of denial | 90 FR [INSERT FR PAGE NUMBER] January 16, 2025.
| PowerAir Pte. Ltd., 1 Raffles Place, #36-01 One Raffles Place, 048616, Singapore. | For all items subject to the EAR (See §§ 734.9(e)(2) and 744.11 of the EAR) ⁴ | Presumption of denial | 90 FR [INSERT FR PAGE NUMBER] January 16, 2025.
* * * * * * *
* * * * *
⁴ For this entity, “items subject to the EAR” includes foreign-produced items that are subject to the EAR under § 734.9(e)(2) of the EAR. See § 744.11(a)(2)(iv) for related license requirements and license review policy.

* * * * *

* * * * *

Matthew S. Borman,
Principal Deputy Assistant Secretary for Export Administration.

[FR Doc. 2025-00480 Filed 1-15-25; 8:45 am]

BILLING CODE 3510-33-P